DEPARTMENT OF AGRICULTURE

Forest Service

Madera County Resource Advisory Committee

AGENCY: Forest Service, USDA.

ACTION: Notice of Resource Advisory Committee meeting.

SUMMARY: Pursuant to the authorities in the Federal Advisory Committee Act of 1972 (Public Law 92-463) and under the secure Rural Schools and Community Self-Determination Act of 2000 (Public Law 106-393) the Sierra National Forest's Resource Advisory Committee for Madera County will meet on Monday, October 21, 2002. The Madera Resource Advisory Committee will meet at the Spring Valley Elementary School in O'Neals, CA. The purpose of the meeting is an update about the RAC presentation at the Madera County Board of Supervisor's meeting September 17, 2002, update RAC committee outreach, discuss a subject for a news article and develop a planning schedule for projects and project reviews.

DATES: The Madera Resource Advisory Committee meeting will be held Monday, October 21, 2002. The meeting will be held from 7 p.m. to 9 p.m.

ADDRESSES: The Madera County RAC meeting will be held at the Spring Valley Elementary School, 46655 Road 200, O'Neals, CA 93645.

FOR FURTHER INFORMATION CONTACT: Dave Martin, U.S.D.A., Sierra National Forest, 57003 Road 225, North Fork, CA 93643, (559) 877-2218 ext. 3100; e-mail: dmartin05@fs.fed.us.

SUPPLEMENTARY INFORMATION: Agenda items to be covered include: (1) Update from the RAC presentation at the Madera County Board of Supervisor's meeting September 17, 2002, (2) update on RAC committee outreach, and, (3) discuss subject for news article (4) develop a planning schedule for projects and project review. The meeting is open to the public. Public input opportunity will be provided and individuals will have the opportunity to address the Committee at that time.

Dated: September 20, 2002.
David W. Martin,
District Ranger.

[FR Doc. 02-24412 Filed 9-25-02; 8:45 am]

BILLING CODE 3410-11-M